DEPARTMENT OF THE INTERIOR

Fish and Wildlife Service

Aquatic Nuisance Species Task Force Ruffe Control Committee Meeting

AGENCY: Fish and Wildlife Service, Interior.

ACTION: Notice of meeting.

SUMMARY: This notice announces a meeting of the Aquatic Nuisance Species (ANS) Task Force Ruffe Control Committee. The meeting topics are identified in the SUPPLEMENTARY INFORMATION.

DATES: The Ruffe Control Committee will meet from 1 p.m. to 5 p.m., Wednesday, October 25, 2000 and 10 a.m. to 3 p.m., Thursday, October 26, 2000.

ADDRESSES: The Ruffe Control Committee meeting will be held in the Comfort Inn, 4404 I-75 Business Spur, Sault Ste Marie, Michigan.

FOR FURTHER INFORMATION CONTACT: Sharon Gross, Executive Secretary, Aquatic Nuisance Species Task Force at 703-358-2308 or by e-mail at: sharon_gross@fws.gov or Thomas Busiahn, Ruffe Control Committee Chair, at 703-358-1718.

SUPPLEMENTARY INFORMATION: Pursuant to section 10(a)(2) of the Federal Advisory Committee Act (5 U.S.C. App. I), this notice announces a meeting of the Aquatic Nuisance Species Task Force Ruffe Control Committee. The ANS Task Force was established by the Nonindigenous Aquatic Nuisance Prevention and Control Act of 1990.

Topics to be covered during the Ruffe Control Committee meeting include: the status of existing ruffe populations, a review of the eight components of the ruffe control plan, an evaluation of the bait harvest prohibitions currently in place on Lake Superior, and other topics.

Minutes of the meeting will be maintained by the Executive Secretary, Aquatic Nuisance Species Task Force, Suite 851, 4401 North Fairfax Drive, Arlington, Virginia 22203-1622, and will be available for public inspection during regular business hours, Monday through Friday.

Dated: September 27, 2000.
Cathleen I. Short,
Co-Chair, Aquatic Nuisance Species Task Force, Assistant Director—Fisheries and Habitat Conservation.

[FR Doc. 00-25315 Filed 10-2-00; 8:45 am]

BILLING CODE 4310-55-M